ENVIRONMENTAL PROTECTION AGENCY

[FRL-7984-3]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held October 25 and 26, 2005 at the Hotel Washington, Washington, DC. The CHPAC was created to advise the Environmental Protection Agency on science, regulations, and other issues relating to children's environmental health.

DATES: The Science and Regulatory Work Groups will meet Monday October 24, 2005. Plenary sessions will take place Tuesday October 25 and Wednesday October 26, 2005.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Monday October 24, 2005 9 a.m. to 5 p.m. The plenary CHPAC will meet on Tuesday October 25, 2005 9 a.m. to 5:30 p.m., with a public comment period at 5 p.m., and on Wednesday October 26, 2005 from 9 a.m. to 11:45 a.m.

The plenary session will open with introductions and a review of the agenda and objectives for the meeting. Agenda items include an update on EPA's Hurricane Katrina and Rita activities, and a discussion of EPA's implementation of the supplemental cancer guidelines. Other potential agenda items include a presentation on community based perspectives on children's environmental health.

Dated: October 11, 2005.
Joanne K. Rodman,
Designated Federal Official.

Children's Health Protection Advisory Committee; Hotel Washington, 515 15th Street, NW., Washington, DC 20004-1099; July 12-14, 2005; Draft Agenda

Monday October 24, 2005

Task Group Meetings

Wednesday, October 25, 2005

8:45 Welcome, Introductions, Review Meeting Agenda

9 Highlights of Recent OCHP Activities

9:45 Presentation and Discussion: Community Based Perspectives on Children's Environmental Health

10:15 Update: VCCEP Evaluation

10:30 Break

10:45 Science Workgroup Status Report

11:15 Human Subjects Comment Letter

12:30 Lunch

1:30 Presentation TBA

3 Public Comment

3:15 Break

3:30 Regulatory Workgroup Status Report

4 Discussion: Regulatory Workgroup Comment Letters

6 Adjourn

Thursday, October 26, 2005

9 Discussion of Day One

9:15 Presentation: Implementation of the Supplemental Cancer Guidelines

10:15 Discuss and Agree on Recommendations

12:15 Wrap Up/Next Steps

[FR Doc. 05-20706 Filed 10-14-05; 8:45 am]

BILLING CODE 6560-50-P